NUCLEAR REGULATORY COMMISSION

[NRC-2010-0195]

Biweekly Notice; Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from May 20, 2010 to June 2, 2010. The last biweekly notice was published on June 1, 2010 (75 FR 30440).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to Cindy Bladey, Chief, Rules, Announcements, and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Entergy Nuclear Operations, Inc., Docket No. 50-333, James A. FitzPatrick Nuclear Power Plant, Oswego County, New York

Date of amendment request: April 21, 2010.

Description of amendment request: The proposed amendment would revise James A. FitzPatrick Technical Specification (TS) 2.0, “Safety Limits (SLs).” Specifically, TS 2.1.1.2 would replace the listed safety limit minimum critical power ratio values of 1.07 for two recirculation loop operation and 1.09 for single recirculation loop operation with new values of 1.08 and 1.11, respectively.

Basis for proposed no significant hazards consideration determination: As required by 10 CFR 50.91(a), the licensee has provided its analysis of the issue of no significant hazards consideration, which is presented below:

1. The operation of JAF [James A. FitzPatrick Nuclear Power Plant] in accordance with the proposed amendment will not involve a significant increase in the probability or consequences of an accident previously evaluated.

The basis of the Safety Limit Minimum Critical Power Ratio (SLMCPR) is to ensure no mechanistic fuel damage is calculated to occur if the limit is not violated. The new SLMCPR values preserve the existing margin to transition boiling and probability of fuel damage is not increased. The derivation of the revised SLMCPR for JAF, for incorporation into the Technical Specifications and its use to determine plant and cycle-specific thermal limits, has been performed using NRC approved methods. These plant-specific calculations are performed each operating cycle and, if necessary, will require future changes to these values based upon revised core designs. The revised SLMCPR values do not change the method of operating the plant and have no effect on the probability of an accident initiating event or transient.

Based on the above, JAF has concluded that the proposed change will not result in a significant increase in the probability or consequences of an accident previously evaluated.

2. The operation of JAF in accordance with the proposed amendment will not create the possibility of a new or different kind of accident from any accident previously evaluated.

The proposed changes result only from a specific analysis for the JAF core reload design. These changes do not involve any new or different methods for operating the facility. No new initiating events or transients will result from these changes.

Based on the above, JAF has concluded that the proposed change will not create the possibility of a new or different kind of accident from those previously evaluated.

3. The operation of JAF in accordance with the proposed amendment will not involve a significant reduction in a margin of safety.

The new SLMCPR is calculated using NRC approved methods with plant and cycle specific parameters for the current core design. The SLMCPR value remains conservative enough to ensure that greater than 99.9% of all fuel rods in the core will avoid transition boiling if the limit is not violated, thereby preserving the fuel cladding integrity. The operating MCPR limit is set appropriately above the safety limit value to ensure adequate margin when the cycle specific transients are evaluated. Accordingly, the margin of safety is maintained with the revised values.

As a result, JAF has determined that the proposed change will not result in a significant reduction in a margin of safety.

On the basis of the above, JAF has determined that operation of the facility in accordance with the proposed change does not involve a significant hazards consideration as defined in 10 CFR 50.92(c), in that it: (1) Does not involve a significant increase in the probability or consequences of an accident previously evaluated; (2) does not create the possibility of a new or different kind of accident from any accident previously evaluated; and (3) does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Nancy L. Salgado.

Pacific Gas and Electric Co., Docket No. 50-133, Humboldt Bay Power Plant (HBPP), Unit 3 Humboldt County, California

Date of amendment request: April 9, 2010.

Description of amendment request: The licensee has proposed amending the technical specifications (TS) to delete TS 3.1.3, “Fuel Storage Pool Liner Water Level.” TS 3.1.3 places restrictions on the maximum operating water level in the gap between the stainless steel liner covering the inside surface of the fuel storage pool and the pool walls. This TS restriction was originally intended to preclude leakage from the fuel storage pool to surrounding groundwater, and to preclude groundwater seepage into the pool. Additional conforming and editorial changes are also proposed.

Basis for proposed no significant hazards consideration determination: As required by 10 CFR 50.91(a), the licensee has provided its analysis of the issue of no significant hazards consideration, which is presented below:

(1) Does the change involve a significant increase in the probability or consequences of an accident previously evaluated?

Response: No.

The proposed changes eliminate the TS requirement to control the operating water level in the gap between the fuel storage pool liner and the pool concrete structure and delete the TS sections that are applicable to Limiting Conditions for Operation (LCO).

Elimination of the TS requirements to control liner gap water level will not increase the probability or consequences of the previously analyzed (and recently updated) fuel storage pool rupture accident. The basis of TS 3.1.3 is to preclude both pool leakage to the surrounding groundwater and groundwater leakage into the pool. The radiological consequences of pool leakage are conservatively bounded by the fuel storage pool rupture analysis, an analysis which demonstrates that the consequences of a breech of the fuel storage pool are insignificant.

Additionally, the proposed changes will not result in the modification of any systems, structures or components and will not affect any parameters or conditions that could contribute to the initiation of an accident.

Therefore, the proposed changes will not involve a significant increase in the probability or consequences of an accident previously evaluated.

(2) Does the change create the possibility of a new or different kind of accident from any accident evaluated?

Response: No.

The proposed changes will not result in the modification of any systems, structures or components and will not affect any parameters or conditions that could contribute to the initiation of an accident. Therefore, the proposed changes will not create the possibility of a new or different kind of accident from those previously evaluated

(3) Does the change involve a significant reduction in a margin of safety?

Response: No.

The design basis and accident assumptions within the Humboldt Bay Power Plant (HBPP) Unit 3 Defueled Safety Analysis Report and the TS relating to spent fuel are no longer applicable. The proposed changes do not affect remaining plant operations, nor structures, systems, or components supporting decommissioning activities. In addition, the proposed changes do not result in a change in initial conditions, system response time, or in any other parameter affecting the course of a decommissioning activity accident analysis. Therefore, the proposed changes will not involve a significant reduction in the margin of safety.

The NRC staff has reviewed the licensee's analysis and, based on this review, it appears that the three standards of 10 CFR 50.92(c) are satisfied. Therefore, the NRC staff proposes to determine that the amendment request involves no significant hazards consideration.

Attorney for licensee: Ms. Jennifer K. Post, Pacific Gas and Electric Company, 77 Beale Street, B30A, San Francisco, CA.

NRC Branch Chief: Bruce Watson (Acting).

PSEG Nuclear LLC, Docket No. 50-354, Hope Creek Generating Station, Salem County, New Jersey

Date of amendment request: March 19, 2010.

Description of amendment request: The proposed amendment would modify the Hope Creek Generating Station (HCGS) Technical Specifications (TSs) by relocating specific surveillance frequencies to a licensee-controlled program, the Surveillance Frequency Control Program (SFCP). The proposed changes are based on Nuclear Regulatory Commission (NRC)-approved Technical Specification Task Force (TSTF) change TSTF-425, Revision 3, “Relocate Surveillance Frequencies to Licensee Control—RITSTF [Risk-Informed TSTF] Initiative 5b” (Agencywide Documents Access and Management System (ADAMS) Package Accession No. ML090850642). Plant-specific deviations from TSTF-425 are proposed to accommodate differences between the HCGS TSs and the model TSs originally used to develop TSTF-425.

The NRC staff issued a Notice of Availability for TSTF-425 in the Federal Register on July 6, 2009 (74 FR 31996). The notice included a model safety evaluation and a model no significant hazards consideration (NSHC) determination. In its application dated March 19, 2010, PSEG Nuclear LLC (PSEG, the licensee) provided its analysis of the issue of NSHC based on the model NSHC determination for TSTF-425.

Basis for proposed no significant hazards consideration determination: As required by 10 CFR 50.91(a), the licensee has provided its analysis of the issue of no significant hazards consideration, which is presented below:

1. Does the proposed change involve a significant increase in the probability or consequences of any accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the Technical Specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed change does not create the possibility of a new or different kind of accident from any accident previously evaluated.

3. Does the proposed change involve a significant reduction in a margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, PSEG will perform a probabilistic risk evaluation using the guidance contained in NRC approved NEI 04-10, Rev. 1 in accordance with the TS SFCP. [The] NEI 04-10, Rev. 1, methodology provides reasonable acceptance guidelines and methods for evaluating the risk increase of proposed changes to surveillance frequencies consistent with Regulatory Guide 1.177. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Vincent Zabielski, PSEG Nuclear LLC-N21, P.O. Box 236, Hancocks Bridge, NJ 08038.

NRC Branch Chief: Harold K. Chernoff.

PSEG Nuclear LLC, Docket No. 50-354, Hope Creek Generating Station, Salem County, New Jersey

PSEG Nuclear LLC, Docket Nos. 50-272 and 50-311, Salem Nuclear Generating Station, Unit Nos. 1 and 2, Salem County, New Jersey

Date of amendment request: March 25, 2010.

Description of amendment request: The proposed amendments would revise the Technical Specifications (TSs) associated with reactor coolant system (RCS) structural integrity requirements for Hope Creek Generating Station (Hope Creek) and Salem Nuclear Generating Station (Salem), Unit Nos. 1 and 2. Specifically, the amendments would: (1) Delete the structural integrity requirements contained in TS ¾.4.8 (Hope Creek), TS ¾.4.10 (Salem Unit 1), and TS ¾.4.11 (Salem Unit 2); (2) relocate the augmented inservice inspection requirements for the reactor coolant pump flywheel, currently contained in Salem Unit 1 surveillance requirement (SR) 4.4.10.1.1 and Salem Unit 2 SR 4.4.11.1, to a new program in TS Section 6.8.4; and (3) delete the augmented inservice inspection program requirements for the steam generator channel heads currently contained in Salem Unit 1 SR 4.4.10.1.2 and Salem Unit 2 SR 4.4.11.2.

Basis for proposed no significant hazards consideration determination: As required by 10 CFR 50.91(a), the licensee has provided its analysis of the issue of no significant hazards consideration, which is presented below, with Nuclear Regulatory Commission (NRC) staff edits in square brackets:

1. Does the proposed amendment involve a significant increase in the probability or consequences of an accident previously evaluated?

Response: No.

The proposed change to remove the RCS Structural Integrity TS does not impact any mitigation equipment or the ability of the RCS pressure boundary to fulfill any required safety function. Since no accident mitigation or initiators are impacted by this change, no design basis accidents are affected. The removal of the RCS Structural Integrity TS eliminates from the TS the redundancy of requirements that are already covered by the inspections necessary to maintain structural integrity under 10 CFR 50.55a [Section 50.55a of Title 10 of the Code of Federal Regulations (10 CFR)].

Therefore, the proposed changes do not represent a significant increase in the probability or consequences of an accident previously evaluated.

2. Does the proposed change create the possibility of a new or different kind of accident from any accident previously evaluated?

Response: No.

The proposed changes do not involve a modification to the physical configuration of the plant (i.e., no new equipment will be installed) or change in the methods governing normal plant operation. The proposed change will not impose any new or different requirements or introduce a new accident initiator, accident precursor, or malfunction mechanism. Therefore, this proposed change does not create the possibility of an accident of a [new or] different kind than previously evaluated.

3. Does the proposed change involve a significant reduction in a margin of safety?

Response: No.

Removal of the RCS Structural Integrity TS does not reduce the controls that are required to maintain the RCS pressure boundary for ASME Code [American Society of Mechanical Engineers Boiler and Pressure Vessel Code] Class 1, 2, or 3 components. The removal of the RCS Structural Integrity TS eliminates from the TS the redundancy of requirements that are already covered by the inspections necessary to maintain structural integrity under 10 CFR 50.55a. No equipment or RCS safety margins are impacted due to the proposed change[.]

Therefore, this proposed change does not involve a significant reduction in a margin of safety.

The NRC staff has reviewed the licensee's analysis and, based on this review, and with the changes noted above in square brackets, it appears that the three standards of 10 CFR 50.92(c) are satisfied. Therefore, the NRC staff proposes to determine that the amendment request involves no significant hazards consideration.

Attorney for licensee: Vincent Zabielski, PSEG Nuclear LLC-N21, P.O. Box 236, Hancocks Bridge, NJ 08038.

NRC Branch Chief: Harold K. Chernoff.

PSEG Nuclear LLC, Docket Nos. 50-272 and 50-311, Salem Nuclear Generating Station, Unit Nos. 1 and 2, Salem County, New Jersey

Date of amendment request: March 23, 2010.

Description of amendment request: The proposed amendment would modify the Salem Nuclear Generating Station, Unit Nos. 1 and 2 (Salem), Technical Specifications (TSs) by relocating specific surveillance frequencies to a licensee-controlled program, the Surveillance Frequency Control Program (SFCP). The proposed changes are based on Nuclear Regulatory Commission (NRC)-approved Technical Specification Task Force (TSTF) change TSTF-425, Revision 3, “Relocate Surveillance Frequencies to Licensee Control—RITSTF [Risk-Informed TSTF] Initiative 5b” (Agencywide Documents Access and Management System (ADAMS) Package Accession No. ML090850642). Plant-specific deviations from TSTF-425 are proposed to accommodate differences between the Salem TSs and the model TSs originally used to develop TSTF-425.

The NRC staff issued a Notice of Availability for TSTF-425 in the Federal Register on July 6, 2009 (74 FR 31996). The notice included a model safety evaluation and a model no significant hazards consideration (NSHC) determination. In its application dated March 23, 2010, PSEG Nuclear LLC (PSEG, the licensee) provided its analysis of the issue of NSHC based on the model NSHC determination for TSTF-425.

Basis for proposed no significant hazards consideration determination: As required by 10 CFR 50.91(a), the licensee has provided its analysis of the issue of no significant hazards consideration, which is presented below:

1. Does the proposed change involve a significant increase in the probability or consequences of any accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed change does not create the possibility of a new or different kind of accident from any accident previously evaluated.

3. Does the proposed change involve a significant reduction in [a] margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, PSEG will perform a probabilistic risk evaluation using the guidance contained in NRC approved NEI [Nuclear Energy Institute] 04-10, Rev. 1 in accordance with the TS SFCP. [The] NEI 04-10, Rev. 1, methodology provides reasonable acceptance guidelines and methods for evaluating the risk increase of proposed changes to surveillance frequencies consistent with Regulatory Guide 1.177.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Vincent Zabielski, PSEG Nuclear LLC-N21, P.O. Box 236, Hancocks Bridge, NJ 08038.

NRC Branch Chief: Harold K. Chernoff.

Wolf Creek Nuclear Operating Corporation, Docket No. 50-482, Wolf Creek Generating Station, Coffey County, Kansas

Date of amendment request: April 13, 2010.

Description of amendment request: The proposed amendment would add a footnote to Function 8.a in Technical Specification (TS) Table 3.3.2-1, “Engineered Safety Feature Actuation System Instrumentation,” concerning the reactor trip P-4 engineered safety feature actuation system (ESFAS) interlock. This would specify which functions of the interlock are necessary in each mode in order to meet the limiting condition for operation. Specifically, the functions of tripping the main turbine and isolating main feedwater with a coincident low average temperature would no longer be applicable in Mode 3, which is hot standby. The amendment would also identify that the function of the P-4 interlock that allows arming of the steam dump valves and transfers the steam dump load rejection (Tavg) controller to the plant trip controller is not required in any mode.

Basis for proposed no significant hazards consideration determination: As required by 10 CFR 50.91(a), the licensee has provided its analysis of the issue of no significant hazards consideration, which is presented below:

1. Does the proposed amendment involve a significant increase in the probability or consequences of an accident previously evaluated?

Response: No.

Overall protection system performance will remain within the bounds of the previously performed accident analyses. Defeating the feedwater isolation low Tavg coincident with P-4 function will not impact any accidents previously evaluated in the Updated Safety Analysis Report (USAR) since feedwater isolation on low Tavg coincident with P-4 is not credited. Bypassing the turbine trip on reactor trip function will not impact any accidents previously evaluated in the USAR since the turbine trip on reactor trip function of P-4 is not credited.

The instrumentation utilized to initiate transfer to the plant trip steam dump controller does not serve a primary protective function so as to warrant inclusion in the TS. The instrumentation does not serve to ensure that the plant is operated within the bounds of initial conditions assumed in design basis accident and transient analyses. Likewise, the transfer to the plant trip steam dump controller instrumentation does not serve as part of the primary success path of a safety sequence analysis used to demonstrate that the consequence of these events are within the appropriate acceptance criteria.

The ESFAS will continue to function in a manner consistent with the accident analysis assumptions and the plant design basis. As such, there will be no degradation in the performance of, nor an increase in, the number of challenges to equipment assumed to function during an accident situation. The proposed changes to the TSs do not affect the probability of any event initiators. There will be no change to normal plant operating parameters or accident mitigation capabilities.

Therefore, this change will not increase the probability or consequences of an accident previously evaluated.

2. Does the proposed amendment create the possibility of a new or different kind of accident from any previously evaluated?

Response: No.

There are no changes in the method by which any safety related plant system performs its safety function and the normal manner of plant operation is unaffected, other than the proposed allowance to defeat feedwater isolation on low Tavg coincident with P-4 and the proposed allowance to defeat the turbine trip on reactor trip function of P-4.

No new accident scenarios, transient precursors, failure mechanisms, or limiting single failures are introduced as a result of this change. There will be no adverse effect or challenges imposed on any safety related system as a result of this change. Therefore, the possibility of a new or different type of accident is not created. The proposed change does not affect the steam generator high-high level trip ESFAS function which initiates feedwater isolation and trips the turbine and main feedwater pumps. Therefore, this change will not create the possibility of a new or different kind of accident from any previously evaluated.

3. Does the proposed amendment involve a significant reduction in a margin of safety?

Response: No.

There will be no effect on the manner in which safety limits or limiting safety system settings are determined nor will there be any effect on those plant systems necessary to assure the accomplishment of protection functions. There will be no impact on departure from nucleate boiling ratio (DNBR) limits, heat flux hot channel factor (FQ(Z)) limits, nuclear enthalpy rise hot channel factor (FNΔH) limits, peak centerline temperature (PCT) limits, peak local power density or any other margin of safety.

Therefore, this change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street, NW., Washington, DC 20037.

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Duke Energy Carolinas, LLC, et al., Docket Nos. 50-413 and 50-414, Catawba Nuclear Station, Units 1 and 2, York County, South Carolina

Date of application for amendments: May 28, 2009, as supplemented by letter dated April 5, 2010.

Brief description of amendments: The amendments revised the Technical Specification (TS) 3.8.1, “AC Sources—Operating,” to restrict voltage limits for the applicable TS 3.8.1 surveillances governing the Emergency Diesel Generators.

Date of issuance: May 27, 2010.

Effective date: As of the date of issuance and shall be implemented within 60 days from the date of issuance.

Amendment Nos.: 255, 250.

Facility Operating License Nos. NPF-35 and NPF-52: Amendments revised the licenses and the Technical Specifications.

Date of initial notice in Federal Register: March 9, 2010 (75 FR 10825). The supplement dated April 5, 2010, provided additional information that clarified the application, did not expand the scope of the application as originally noticed, and did not change the staff's original proposed no significant hazards consideration determination.

The Commission's related evaluation of the amendments is contained in a Safety Evaluation dated May 27, 2010.

No significant hazards consideration comments received: No.

Duke Energy Corporation, et al., Docket Nos. 50-413 and 50-414, Catawba Nuclear Station, Units 1 and 2, York County, South Carolina

Duke Energy Corporation, Docket Nos. 50-369 and 50-370, McGuire Nuclear Station, Units 1 and 2, Mecklenburg County, North Carolina

Duke Energy Corporation, Docket Nos. 50-269, 50-270, and 50-287, Oconee Nuclear Station, Units 1, 2, and 3, Oconee County, South Carolina

Date of application for amendments: May 18, 2009.

Brief description of amendments: The proposed changes would revise the Technical Specifications (TSs) to adopt Technical Specification Task Force (TSTF)-248, “Revise Shutdown Margin Definition For Stuck Rod Exception.” The TSTF revises the definition of shutdown margin (SDM) in the TSs with all control rods verified fully inserted by two independent means. It is not necessary to account for a stuck control rod in the SDM calculation.

Date of issuance: May 28, 2010.

Effective date: As of the date of issuance and shall be implemented within 60 days from the date of issuance.

Amendment Nos.: 254, 249, 255, 235, 367, 369, and 368.

Renewed Facility Operating License Nos. NPF-35, NPF-52, NPF-9, NPF-17, DPR-38, DPR-47, and DPR-55: Amendments revised the Operating Licenses and the Technical Specifications.

Date of initial notice in Federal Register: March 9, 2010 (75 FR 10827).

The Commission's related evaluation of the amendments is contained in a Safety Evaluation dated May 28, 2010.

No significant hazards consideration comments received: No.

Energy Northwest, Docket No. 50-397, Columbia Generating Station, Benton County, Washington

Date of application for amendment: August 17, 2009, as supplemented by letter dated January 21, 2010.

Brief description of amendment: The amendment modified (1) Technical Specification (TS) 3.8.3, “Diesel Fuel Oil, Lube Oil, and Starting Air,” to relocate specific numerical values for fuel oil and lube oil storage volumes from the TS to the TS Bases, (2) TS 3.8.1, “AC [Alternating Current] Sources—Operating,” to relocate specific values for the day tank fuel oil volumes from the TS to the TS Bases, and (3) TS 5.5.9, “Diesel Fuel Oil Testing Program,” to relocate the specific standard for particulate concentration testing of fuel oil from the TS to the TS Bases.

Date of issuance:

Effective Date: As of its date of issuance and shall be implemented within 90 days from the date of issuance.

Amendment No.: 215.

Facility Operating License No. NPF-21: The amendment revised the Facility Operating License and Technical Specifications.

Date of initial notice in Federal Register: November 3, 2009 (74 FR 56884). The supplemental letter dated January 21, 2010, provided additional information that clarified the application, did not expand the scope of the application as originally noticed, and did not change the staff's original proposed no significant hazards consideration determination as published in the Federal Register.

The Commission's related evaluation of the amendment is contained in a Safety Evaluation dated May 27, 2010.

No significant hazards consideration comments received: No.

Entergy Nuclear Operations, Inc., Docket No. 50-255, Palisades Nuclear Plant, Van Buren County, Michigan

Date of application for amendment: March 31, 2010, supplemented by letter dated May 13, 2010.

Brief description of amendment: The amendment adds a new license condition 2.C(4) to Palisades Nuclear Plant, renewed facility license No. DPR-20. This license condition would state that performance of Technical Specification (TS) surveillance requirement (SR) 3.1.4.3 is not required for control rod drive 22 through cycle 21 or until the next entry into Mode 3. The amendment consists of changes to TS by addition of a note in SR 3.1.4.3, stating: “Not required to be performed or met for control rod 22 during cycle 21 provided control rod 22 is administratively declared immovable, but trippable and Condition D is entered for control rod 22.”

Date of issuance: June 2, 2010.

Effective date: As of the date of issuance and shall be implemented within 15 days.

Amendment No.: 239.

Facility Operating License No. DPR-20: Amendment revised the Technical Specifications and license.

Public comments requested as to proposed no significant hazards consideration (NSHC): The notice provided an opportunity to submit comments on the Commission's proposed NSHC determination. No comments have been received. The notice also provided an opportunity to request a hearing by June 13, 2010, which is within 60 days of the individual notice published on April 14; but indicated that if the Commission makes a final NSHC determination, any such hearing would take place after issuance of the amendment.

Date of initial Individual notice in Federal Register: April 14, 2010 (75 FR 19428), followed by the repeat biweekly notice in the Federal Register on May 4, 2010 (75 FR 23818).

The Commission's related evaluation of the amendment, state consultation, and final NSHC determination are contained in a Safety Evaluation dated June 2, 2010.

Attorney for licensee: Mr. William Dennis, Assistant General Counsel, Entergy Nuclear Operations, Inc., 440 Hamilton Ave., White Plains, NY 10601.

NRC Branch Chief: Robert J. Pascarelli.

Entergy Operations, Inc., Docket No. 50-368, Arkansas Nuclear One, Unit No. 2, Pope County, Arkansas

Date of application for amendment: May 15, 2009, as supplemented by letters dated November 10, 2009, and May 17, 2010.

Brief description of amendment: The amendment modified Technical Specification (TS) 6.6.5, “Core Operating Limits Report (COLR),” to minimize the number of U.S. Nuclear Regulatory Commission (NRC)-approved references consistent with the guidance provided in NRC Generic Letter 88-16, “Removal of Cycle-Specific Parameter Limits from Technical Specifications,” dated October 3, 1988. This also fulfills the commitment made in the licensee's letter to the NRC dated March 11, 2008, “Response to Request for Additional Information License Amendment Request to Revise Technical Specification 6.6.5, Core Operating Limits Report.”

Date of issuance: May 25, 2010.

Effective Date: As of the date of issuance and shall be implemented within 90 days from the date of issuance.

Amendment No.: 290.

Renewed Facility Operating License No. NPF-6: Amendment revised the Technical Specifications/license.

Date of initial notice in Federal Register: June 30, 2009 (74 FR 31321). The supplemental letters dated November 10, 2009, and May 17, 2010, provided additional information that clarified the application, did not expand the scope of the application as originally noticed, and did not change the staff's original proposed no significant hazards consideration determination as published in the Federal Register.

The Commission's related evaluation of the amendment is contained in a Safety Evaluation dated May 25, 2010.

No significant hazards consideration comments received: No.

Entergy Operations, Inc., Docket No. 50-382, Waterford Steam Electric Station, Unit 3, St. Charles Parish, Louisiana

Date of amendment request: May 22, 2009, as supplemented by letter dated May 17, 2010.

Brief description of amendment: The amendment modified Technical Specification 6.9.1.11 to minimize the number of references that reflect U.S. Nuclear Regulatory Commission (NRC)-approved methods used in establishing the Core Operating Limits Report (COLR) parameter limits, consistent with the guidance provided in NRC Generic Letter 88-16, “Removal of Cycle-Specific Parameter Limits from Technical Specifications,” dated October 3, 1988.

Date of issuance: May 25, 2010.

Effective Date: As of the date of issuance and shall be implemented 90 days from the date of issuance.

Amendment No.: 226.

Facility Operating License No. NPF-38: The amendment revised the Facility Operating License and Technical Specifications.

Date of initial notice in Federal Register: June 30, 2009 (74 FR 31322). The supplemental letter dated May 17, 2010, provided additional information that clarified the application, did not expand the scope of the application as originally noticed, and did not change the staff's original proposed no significant hazards consideration determination as published in the Federal Register.

The Commission's related evaluation of the amendment is contained in a Safety Evaluation dated May 25, 2010.

No significant hazards consideration comments received: No.

Exelon Generation Company, LLC, Docket No. 50-289, Three Mile Island Nuclear Station, Unit 1 (TMI-1), Dauphin County, Pennsylvania

Date of application for amendment: September 29, 2008, supplemented by letters dated May 6, 2009, June 23, 2009, August 21, 2009, September 17, 2009, October 15, 2009, and November 11, 2009.

Brief description of amendment: The changes revise the TMI-1 technical specifications (TSs) to reflect design changes resulting from the planned Control Rod Drive Control System digital upgrade project. In addition, the proposed amendment revises the TS to remove all references to the Axial Power Shaping Rods to reflect changes resulting from their elimination from the TMI-1 reactor.

Date of issuance: May 27, 2010.

Effective Date: Immediately, and shall be implemented prior to exiting cold shutdown from the fall 2011 (T1R19) refueling outage.

Amendment No.: 273.

Renewed Facility Operating License No. DPR-50. Amendment revised the license and the technical specifications. The supplements dated May 6, 2009, June 23, 2009, August 21, 2009, September 17, 2009, October 15, 2009, and November 11, 2009, provided additional information that clarified the application, did not expand the scope of the application as originally noticed, and did not change the NRC staff's original proposed no significant hazards determination.

Date of initial notice in Federal Register: March 10, 2009 (74 FR 10308).

The Commission's related evaluation of the amendment is contained in a Safety Evaluation dated May 27, 2010.

No significant hazards consideration comments received: No.

FirstEnergy Nuclear Operating Company, et al., Docket Nos. 50-334 and 50-412 Beaver Valley Power Station, Unit Nos. 1 and 2 (BVPS-1 and 2), Beaver County, Pennsylvania

Date of application for amendment: June 11, 2009.

Brief description of amendment: The amendments will (1) modify Technical Specifications (TSs) to eliminate Surveillance Requirement (SR) 3.3.2.9, which verifies that the Engineered Safety Feature Actuation System Response Times are within the limits for the recirculation spray pumps, (2) revise Section 1.4 of the TSs to add clarification to Notes associated with SRs in accordance with Technical Specification Task Force Traveler, TSTF 475-A, Revision 1, “Control Rod Notch Testing Frequency and SRM [Source Range Monitor] Insert Control Rod Action,” (3) revise the BVPS-1 operating license to remove a License Condition for recommended inspections of steam generator repairs, and (4) make some editorial changes to the operating license pages.

Date of issuance: May 20, 2010.

Effective Date: As of the date of issuance, and shall be implemented within 30 days from the date of issuance.

Amendment Nos.: 285 and 171.

Facility Operating License Nos. DPR-66 and NPF-73: The amendments revised the License, TSs, Appendix B, and Appendix D.

Date of initial notice in Federal Register: December 15, 2009 (74 FR 66385).

The Commission's related evaluation of the amendment is contained in a Safety Evaluation dated May 20, 2010.

No significant hazards consideration comments received: No.

Florida Power and Light Company, et al., Docket No. 50-389, St. Lucie Plant, Unit No. 2, St. Lucie County, Florida

Date of application for amendment: May 22, 2009, as supplemented June 22, 2009.

Brief description of amendment: Revises Technical Specification 3.1.3.4, related to requirements for Control Element Assembly drop time.

Date of Issuance: May 31, 2010.

Effective Date: As of the date of issuance and shall be implemented within 60 days of issuance.

Amendment No.: 158.

Renewed Facility Operating License No. NPF-16: Amendment revised the license and the Technical Specifications.

Date of initial notice in Federal Register: June 1, 2009 (74 FR 26261). The supplement dated June 22, 2009, provided additional information that clarified the application, did not expand the scope of the application as originally noticed, and did not change the staff's original proposed no significant hazards consideration determination as published in the Federal Register.

The Commission's related evaluation of the amendment is contained in a Safety Evaluation dated May 31, 2010.

No significant hazards consideration comments received: No.

NextEra Energy Point Beach, LLC, Docket Nos. 50-266 and 50-301, Point Beach Nuclear Plant, Units 1 and 2, Town of Two Creeks, Manitowoc County, Wisconsin

Date of application for amendments: April 17, 2009, as supplemented by letter dated January 19, 2010.

Brief description of amendments: Amend Renewed Operating Licenses DPR-24 and DPR-27 for Point Beach Nuclear Plant Units 1 and 2, respectively, to reflect a change in the legal name of the licensee from “FPL Energy Point Beach, LLC” to “NextEra Energy Point Beach, LLC” and correct a typographical error in Appendix C from “FPLE Group Capital” to “FPL Group Capital.”

Date of issuance: May 13, 2010.

Effective Date: As of the date of issuance and shall be implemented within 30 days.

Amendment Nos.: 237, 241.

Renewed Facility Operating License Nos. DPR-24 and DPR-27: Amendments revised the Technical Specifications/License.

Date of initial notice in Federal Register: July 14, 2009 (74 FR 34048) as supplemented by March 3, 2010 (75 FR 9619).

The Commission's related evaluation of the amendments is contained in a Safety Evaluation dated May 13, 2010.

No significant hazards consideration comments received: No.

Northern States Power Company—Minnesota, Docket Nos. 50-282 and 50-306, Prairie Island Nuclear Generating Plant, Units 1 and 2, Goodhue County, Minnesota

Date of application for amendments: June 24, 2009, as supplemented by letter dated December 21, 2009.

Brief description of amendments: The amendments modify the technical specification requirements to control room habitability in accordance with Technical Specification Task Force (TSTF)-448, Revision 3, “Control Room Habitability.”

Date of issuance: May 20, 2010.

Effective date: As of the date of issuance and shall be implemented within 180 days.

Amendment Nos.: 195, 184.

Facility Operating License Nos. DPR-42 and DPR-60: Amendments revised the Facility Operating Licenses and the Technical Specifications.

Date of initial notice in Federal Register: September 8, 2009 (74 FR 46243). The supplemental letter contained clarifying information and did not change the initial no significant hazards consideration determination, and did not expand the scope of the original Federal Register notice.

The Commission's related evaluation of the amendments is contained in a Safety Evaluation dated May 20, 2010.

No significant hazards consideration comments received: No.

Southern Nuclear Operating Company et al., Docket No. 52-011, Vogtle Electric Generating Plant ESP Site, Burke County, Georgia

Date of amendment request: April 20, 2010, as supplemented April 23 and 28, May 5, 10, 13, and 20, 2010.

Description of amendment request: The amendment revised the Vogtle Electric Plant (VEGP) ESP Site Safety Analysis Report (SSAR) to allow the use of Category 1 and 2 backfill material from additional onsite areas that were not specifically identified in the VEGP ESP SSAR as backfill sources for the activities approved under the ESP and Limited Work Authorization. After consideration of the applicant's request by letter dated May 13, 2010, for a limited scope approval, this amendment only approved a subset of onsite backfill locations pending the NRC determination on the remainder of the backfill sources identified in the license amendment request.

Date of issuance: May 21, 2010.

Effective Date: As of date of issuance and shall be implemented within 15 days from the date of issuance.

Amendment No.: One.

Early Site Permit No. ESP-004: Amendment revised the VEGP ESP SSAR .

Public comments requested as to proposed no significant hazards consideration (NSHC): Yes. May 6, 2010 (75 FR 24993). The supplements dated May 5, 10, 13, and 20, 2010, provided additional information that clarified the application, did not expand the scope of the application as originally noticed, and did not change the NRC staff's original proposed no significant hazards consideration determination. The May 6 notice provided an opportunity to submit comments on the Commission's proposed NSHC determination. No comments have been received. The May 6 notice also provided an opportunity to request a hearing by July 6, 2010, but indicated that if the Commission makes a final NSHC determination, any such hearing would take place after issuance of the amendment.

The Commission's related evaluation of the requested limited scope approval of the amendment, finding of exigent circumstances, state consultation, and final NSHC determination are contained in a safety evaluation dated May 21, 2010. The NRC staff prepared an environmental assessment (75 FR 28664) and determined that the requested limited scope approval of the amendment will not have a significant effect on the quality of the human environment.

Attorney for licensee: M. Stanford Blanton, Balch & Bingham, LLP.

NRC Branch Chief: Jeffrey Cruz.

Union Electric Company, Docket No. 50-483, Callaway Plant, Unit 1, Callaway County, Missouri

Date of application for amendment: May 4, 2009.

Brief description of amendment: The amendment revised Technical Specification (TS) 3.7.2, “Main Steam Isolation Valves (MSIVs),” to add the main steam isolation valve bypass valves and main steam low point drain isolation valves to the scope of this TS and modify the title and page header of TS 3.7.2; revised footnotes (i) and (k) in TS Table 3.3.2-1, “Engineered Safety Feature Actuation System Instrumentation,” of TS 3.3.2 to make the Applicability of TS Table 3.3.2-1 consistent with the Applicability of TS 3.7.2 and deleted footnote (l) which is no longer used in the Table; and added new TS 3.7.19, “Secondary System Isolation Valves (SSIVs),” Limiting Condition for Operation 3.7.19, and Surveillance Requirements (SRs) 3.7.19.1 and 3.7.19.2 for the following secondary system isolation valves: steam generator chemical injection isolation valves, steam generator blowdown isolation valves, and steam generator sample line isolation valves. Correspondingly, the amendment added new Function 10, “Steam Generator Blowdown System and Sample Line Isolation Valve Actuation,” and new exception footnote (t) for Function 10 in TS Table 3.3.2-1.

Date of issuance: May 28, 2010.

Effective date: As of its date of issuance and shall be implemented within 90 days from the date of issuance.

Amendment No.: 197.

Facility Operating License No. NPF-30: The amendment revised the Operating License and Technical Specifications.

Date of initial notice in Federal Register: August 25, 2009 (74 FR 42933).

The Commission's related evaluation of the amendment is contained in a Safety Evaluation dated May 28, 2010.

No significant hazards consideration comments received: No.

Virginia Electric and Power Company, Docket Nos. 50-338 and 50-339, North Anna Power Station, Units 1 and 2, Louisa County, Virginia

Date of application for amendment: December 16, 2009.

Brief description of amendment: The amendment would revise the Technical Specifications (TSs) to adopt Nuclear Regulatory Commission (NRC)-approved Revision 2 to Technical Specification Task Force (TSTF) Standard Technical Specification Change Traveler, TSTF-427, “Allowance for Non Technical Specification Barrier Degradation on Support System Operability.” The proposed amendment will modify the requirements for unavailable barriers by adding a Limiting Condition for Operation 3.0.9.

Date of issuance: May 4, 2010.

Effective Date: As of the date of issuance and shall be implemented within 60 days from the date of issuance.

Amendment Nos.: 259 and 240.

Renewed Facility Operating License Nos. NPF-4 and NPF-7: Amendments change the licenses and the TSs.

Date of initial notice in Federal Register: January 26, 2010.

The Commission's related evaluation of the amendments is contained in a Safety Evaluation dated May 4, 2010.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A requestor/petitioner who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—Primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a requestor/petitioner seeks to adopt the contention of another sponsoring requestor/petitioner, the requestor/petitioner who seeks to adopt the contention must either agree that the sponsoring requestor/petitioner shall act as the representative with respect to that contention, or jointly designate with the sponsoring requestor/petitioner a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Omaha Public Power District, Docket No. 50-285, Fort Calhoun Station, Unit No. 1, Washington County, Nebraska

Date of amendment request: May 31, 2010, as supplemented by letter dated June 1, 2010.

Description of amendment request: The amendment modified Technical Specification (TS) 2.15, “Instrumentation and Controls,” Table 2-5, Note c to allow a one-time extension of the 7-day allowed outage time for inoperability of Item 4, “Safety Valve Acoustic Position Indication,” to allow repair prior to the next entry into Operating Mode 3 (Hot Shutdown) from Operating Mode 4 (Cold Shutdown).

Date of issuance: June 2, 2010.

Effective Date: As of its date of issuance and shall be implemented upon issuance.

Amendment No.: 265.

Renewed Facility Operating License No. DPR-40: The amendment revised the Technical Specifications.

Public comments requested as to proposed no significant hazards consideration (NSHC): No.

The Commission's related evaluation of the amendment, finding of emergency circumstances, state consultation, and final NSHC determination are contained in a safety evaluation dated June 2, 2010.

Attorney for licensee: David A. Repka, Esq., Winston & Strawn, 1700 K Street, NW., Washington, DC 20006-3817.

NRC Branch Chief: Michael T. Markley.

Dated at Rockville, Maryland, this 3rd day of June 2010.
For the Nuclear Regulatory Commission.
Joseph G. Giitter,
Director, Division of Operating Reactor Licensing, Office of Nuclear Reactor Regulation.

[FR Doc. 2010-14063 Filed 6-14-10; 8:45 am]

BILLING CODE 7590-01-P